DEPARTMENT OF DEFENSE

Office of the Secretary

[Docket ID: DoD-2015-OS-0128]

Submission for OMB Review; Comment Request

ACTION: Notice.

SUMMARY: The Department of Defense has submitted to OMB for clearance, the following proposal for collection of information under the provisions of the Paperwork Reduction Act.

DATES: Consideration will be given to all comments received by July 14, 2016.

FOR FURTHER INFORMATION CONTACT: Fred Licari, 571-372-0493.

SUPPLEMENTARY INFORMATION: Title, Associated Form and OMB Number: Science, Mathematics and Research for Transformation (SMART) Program Documents; DD Forms X716, X717, X718, X719, X720, X721, X723, X724, X725, X728, X729, and X731; OMB Control Number 0704-0466.

Type of Request: Reinstatement, with change, of a previously approved collection for which approval has expired.

Number of Respondents: 4,300.

Responses per Respondent: 8.5.

Annual Responses: 5,875.

Average Burden per Response: 25.5 hours.

Annual Burden Hours: 30,200.

Needs and Uses: The information collection requirement is a statutory and functional necessity to administer the SMART scholarship program. The SMART Program requires a competitive application process. All awardees must be U.S. citizens at the time of application, 18 years or older as of 1 August, 2015, able to participate in summer internships at DoD laboratories, willing to accept post-graduation employment with the DoD, be a current college student in good standing with a minimum GPA of 3.0 on a 4.0 scale (as calculated by the SMART application), pursuing an undergraduate or graduate degree in one of the 19 program funded disciplines, and eligible to obtain and maintain a secret level clearance.

Affected Public: Individuals or households.

Frequency: On occasion.

Respondent's Obligation: Required to obtain or retain benefits.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DoD Clearance Officer: Mr. Frederick Licari.

Written requests for copies of the information collection proposal should be sent to Mr. Licari at WHS/ESD Directives Division, 4800 Mark Center Drive, East Tower, Suite 02G09, Alexandria, VA 22350-3100.

Dated: June 8, 2016.
Aaron Siegel,
Alternate OSD Federal Register Liaison Officer, Department of Defense.

[FR Doc. 2016-13951 Filed 6-13-16; 8:45 am]

BILLING CODE 5001-06-P